EXPORT-IMPORT BANK

Sunshine Act Meetings; Notice of an Open Meeting of the Board of Directors of the Export-Import Bank of the United States

TIME AND DATE: Wednesday, September 9, 2020 at 10:00 a.m.

PLACE: The meeting will be held via teleconference.

STATUS: The meeting will be open to public observation by teleconference only.

MATTERS TO BE CONSIDERED:

1. Appointment of EXIM Advisory Committee for 2020;

2. Appointment of EXIM Sub-Saharan Africa Advisory Committee for 2020.

CONTACT PERSON FOR MORE INFORMATION: Joyce Stone at joyce.stone@exim.gov or 202-257-4086. Members of the public who wish to attend the meeting should use the following link: https://attendee.gotowebinar.com/register/8697049424026680843. Individuals will be given call-in information.

Joyce B. Stone,
Assistant Corporate Secretary.

[FR Doc. 2020-19458 Filed 8-31-20; 11:15 am]

BILLING CODE 6690-01-P